DEPARTMENT OF THE TREASURY

Bureau of the Public Debt

Privacy Act of 1974; Systems of Records

AGENCY: Bureau of the Public Debt, Treasury.

ACTION: Notice of modification of privacy act system of records.

SUMMARY: The Bureau of the Public Debt (BPD) is publishing notice of a proposed modification of our Controlled Access Security System (Treasury/BPD.004) system of records, as required under the Privacy Act of 1974. The modification adds a new category of records maintained in the system and a new method of retrieving the records in the system.

DATES: Comments must be received no later than August 17, 2009. The proposed alteration will be effective August 26, 2009 unless BPD receives comments that result in BPD determining that the modification should not be made.

ADDRESSES: Submit comments to the Office of the Chief Counsel, Bureau of the Public Debt, 799 9th Street, NW., Washington, DC 20239-001. All comments, including attachments and other supporting materials, received are part of the public record and subject to public disclosure. You should submit only information that you wish to make available publicly.

FOR FURTHER INFORMATION CONTACT: Amy Mertz Brown, Deputy Chief Counsel, Bureau of the Public Debt, (202) 504-3715, Amy.Mertz.Brown@bpd.treas.gov or Mary Schaffer, Attorney Advisor, Bureau of the Public Debt, (304) 480-8692, Mary.Schaffer@bpd.treas.gov.

SUPPLEMENTARY INFORMATION:

BPD proposes to modify our system of records entitled Controlled Access Security System (Treasury/BPD.004) to revise the “Categories of Records” to include biographic and biometric information. The records in this system cover BPD employees, employees of contractors and service companies, and official visitors. We control and verify access to our facilities. As part of the access control, we may obtain and use biographic information (name, addresses, date of birth, Social Security Number) and biometric information (fingerprints, digital color photograph, height, weight, hair/eye color) concerning individuals. We also propose to revise “Retrievability” to state that records in this system can be retrieved by the biographic and biometric information. BPD last published its systems of records in the Federal Register in their entirety on July 23, 2008, at 73 FR 42904.

We have submitted the report of an altered system of records to the Office of Management and Budget and to Congress, as required by 5 U.S.C. 552a(r) and Appendix I to OMB Circular A-130, “Federal Agency Responsibilities for Maintaining Records About Individuals.”

BPD proposes to amend its system of records number Treasury/BPD.004 as follows:

Treasury/BPD.004

System Name:

Controlled Access Security System

* * * * *

Categories of Records in the System:

Description of change: Remove current entry and in its place add the following: “A record is created for each physical access to designated areas and includes card number, work shift, access level, and the time, date and location of each use of the access card at a card reader. The access record also includes the individual's biographic information (full legal name, date of birth, and Social Security Number) and biometric information (fingerprints, digital color photograph, height, weight, and eye/hair color).”

* * * * *

Retrievability:

Description of change: Remove current entry and in its place add the following: “Information on individuals can be retrieved by name or card number or other assigned identifier such as biometric or biographic information.”

* * * * *

Dated: July 13, 2009.
Elizabeth Cuffe,
Deputy Assistant Secretary for Privacy and Treasury Records.

[FR Doc. E9-17132 Filed 7-16-09; 8:45 am]

BILLING CODE 4810-39-P